NATIONAL AERONAUTICS AND SPACE ADMINISTRATION

[Notice 13-072]

National Environmental Policy Act; Sounding Rockets Program; Poker Flat Research Range

AGENCY: National Aeronautics and Space Administration (NASA).

ACTION: Notice of availability of the Final Environmental Impact Statement (FEIS) for the NASA Sounding Rockets Program (SRP) at Poker Flat Research Range (PFRR), Alaska.

SUMMARY: Pursuant to the National Environmental Policy Act, as amended, (NEPA) (42 U.S.C. 4321 et seq.), the Council on Environmental Quality Regulations for Implementing the Procedural Provisions of NEPA (40 CFR Parts 1500-1508), and NASA's NEPA policy and procedures (14 CFR Part 1216, subpart 1216.3), NASA has prepared and issued a FEIS for its continued use of the University of Alaska Fairbanks (UAF) owned and managed PFRR, outside of Fairbanks, Alaska. The Bureau of Land Management (BLM), U.S. Fish and Wildlife Service (USFWS), and UAF have served as Cooperating Agencies in preparing the FEIS.

The purpose of this notice is to apprise interested agencies, organizations, tribal governments, and individuals of the availability of the FEIS.

DATES: NASA will issue a Record of Decision (ROD) based on the FEIS no sooner than 30 days from the date of publication in the Federal Register of the U.S. Environmental Protection Agency's Notice of Availability of the FEIS.

ADDRESSES: The FEIS may be reviewed at the following locations:

(a) ARLIS, 3211 Providence Drive, Anchorage, Alaska, 99508

(907-272-7547)

(b) Z.J. Loussac Public Library, 3600 Denali Street, Anchorage, Alaska, 99503

(907-343-2975)

(c) Elmer E. Rasmuson Library, 310 Tanana Loop, Fairbanks, Alaska, 99775

(907-474-7481)

(d) Noel Wien Library, 1215 Cowles Street, Fairbanks, Alaska 99701

(907-459-1020)

(e) Juneau Public Library, 292 Marine Way, Juneau, Alaska 99801

(907-586-5249)

(f) NASA Headquarters Library, Room 1J20, 300 E Street SW., Washington, DC 20546-0001 (202-358-0168)

A limited number of hard copies of the FEIS are available, on a first request basis, by contacting Joshua Bundick, NASA Wallops Flight Facility, Mailstop: 250.W, Wallops Island, Virginia 23337; telephone at 757-824-2319; or electronic mail at Joshua.A.Bundick@nasa.gov. The FEIS is also available on the Internet in Adobe® portable document format at http://sites.wff.nasa.gov/code250/pfrr_eis.html.

NASA's ROD will be made available, once issued, on the same Web site as above and by request to the contact provided above.

FOR FURTHER INFORMATION CONTACT: Joshua Bundick, Manager, Poker Flat Research Range EIS, NASA Wallops Flight Facility, Mailstop: 250.W, Wallops Island, Virginia 23337; telephone: 757-824-2319; fax: 757-824-1819; electronic mail: Joshua.A.Bundick@nasa.gov. A toll-free telephone number, 800-521-3415, is also available for persons outside the local calling area. When using the toll-free number, please follow the menu options and enter the “pound sign (#)” followed by extension numbers “2319.”

Additional information about NASA's SRP and UAF's PFRR may be found on the Internet at http://sites.wff.nasa.gov/code810 and http://www.pfrr.alaska.edu, respectively. Information regarding the NEPA process for this proposal and supporting documents (as available) are located at http://sites.wff.nasa.gov/code250/pfrr_eis.html.

SUPPLEMENTARY INFORMATION: Since the late 1960s, NASA, other government agencies, and educational institutions have conducted suborbital rocket launches from the PFRR. While the PFRR is owned and managed by the Geophysical Institute of UAF, the NASA SRP has exclusively funded and managed the support contract with PFRR for more than 25 years.

The PFRR is the only high-latitude, auroral-zone rocket launching facility in the United States where a sounding rocket can readily study the aurora borealis and the sun-earth connection.

Related Environmental Documents

In 2010, concerns raised by agencies and organizations regarding the potential impact of its operations at PFRR prompted NASA to review its 2000 SRP Final Supplemental Environmental Impact Statement (FSEIS). In doing so, NASA determined that while the overall environmental analysis in the 2000 SRP FSEIS remains sufficient to support the Agency's broad decision to continue the SRP at PFRR, potential changes in both operations and the environmental context of the launch corridor north of the site warranted preparation of additional site-specific environmental analysis. Accordingly, the FEIS tiers from the programmatic 2000 FSEIS and provides a focused analysis of SRP operations at PFRR.

Alternatives

The FEIS evaluates the environmental consequences of five alternative means for continuing sounding rocket launches at PFRR. The alternatives differ primarily in the level of effort that would be exerted to locate and recover past and future launch related items in downrange lands. Two alternatives also include a restriction on planning rocket motor or payload impacts within designated Wild or Scenic Rivers. NASA has identified Alternative 1, Continue NASA SRP Activities and Flights at PFRR within Existing Flight Zones with Environmental Screening for Recovery of New and Existing Stages and Payloads (Environmentally Responsible Search and Recovery Alternative) as its Preferred Alternative.

Cooperating Agency Actions

The FEIS will serve as a decision-making tool not only for NASA but also for its two Federal Cooperating Agencies, BLM and USFWS. Directly north of the PFRR launch site are its downrange flight zones, over which rockets are launched and within which spent stages and payloads impact the ground. Within these flight zones are BLM's Steese National Conservation Area and White Mountain National Recreational Area, and the USFWS-managed Arctic and Yukon Flats National Wildlife Refuges. Historically, the managing entities have issued UAF annual or multi-year special-use authorizations for impact of rockets and recovery operations on these lands.

BLM and USFWS are currently considering if and how future authorizations for rocket impact and recovery would be issued for the lands under their management. As such, the FEIS considers the effects of each agency's respective action—both issuance and non-issuance of future authorizations.

Review of Draft EIS

NASA mailed over 150 copies of the Draft EIS (DEIS) to potentially interested Federal, State, and local agencies; tribal governments; organizations; individuals; and public reading rooms. Following the U.S. EPA's publication of a Notice of Availability (NOA) of the DEIS in the Federal Register on September 28, 2012 (77 FR 59611), NASA published its own NOA of the DEIS on October 10, 2012 (77 FR 61642). In addition, NASA held public meetings in Anchorage and Fairbanks, Alaska, and made the DEIS publicly available in electronic format on the project Web site. The public review and comment period for the DEIS closed on November 28, 2012. NASA received a total of 6 submissions (letters, emails, and transcribed oral comments) from Federal agencies, non-governmental organizations, and individuals. The resulting 40 comments received spanned a broad range of topics; however the majority of commenters expressed concern regarding effects of the SRP on special use lands (e.g., designated Wilderness and Wild Rivers) and wilderness-based recreation. Both the comments received on the DEIS and NASA's responses to those comments are included in the FEIS in Appendix K. In parallel with preparing the FEIS, NASA also formally consulted with resource agencies regarding the potential effects of its operations on federally threatened and endangered species and cultural and historic resources. The outcomes of these consultations are summarized in the FEIS and are also included in Appendix A.

In summary, notice of the availability of the FEIS is hereby given.

Olga M. Dominguez,
Assistant Administrator, Office of Strategic Infrastructure.

[FR Doc. 2013-15986 Filed 7-2-13; 8:45 am]

BILLING CODE 7510-13-P